DEPARTMENT OF ENERGY

Federal Energy Regulatory Commission

[Docket No. EG00-96-000, et al.]

Mexican Business Trust No. 111014-6, et al.; Electric Rate and Corporate Regulation Filings

February 22, 2000.

Take notice that the following filings have been made with the Commission:

1. Mexican Business Trust No. 111014-6; Banco Nacional de Mexico, S.A.,; Institución de Banca Multiple, División; Fiduciaria, Grupo Financiero; Banamex-Accival (as Trustee under Mexican Business Trust No. 111014-6) and Termoele-AE1ctrica del Golfo, S. de R.L. de C.V.

[Docket Nos. EG00-96-000, EG00-95-000 and EG00-97-000]

Take notice that on February 11, 2000 Mexican Business Trust No. 111014-6 (the Trust); Banco Nacional de Me-AE1xico, S.A., Institución de Banca Múltiple, Divisio-AE1n Fiduciaria, Grupo Financiero Banamex-Accival (the Trustee under Mexican Business Trust No. 111014-6); and Termoeléctrica del Golfo, S. de R.L. de C.V. (TEG and together with the Trust and Trustee, Applicants), Ave. Constitucion 444 Pte. Centro, Monterrey, N.L., Mexico C.P. 64000, filed with the Federal Energy Regulatory Commission an application for determination of exempt wholesale generator status pursuant to Part 365 of the Commission's regulations.

The Trust states that it is a trust organized under the laws of Mexico, the Trustee, for the purposes of acting as trustee to the Trust only, states that it is a company organized under the laws of Mexico, and TEG states that it is a limited liability company organized under the laws of Mexico and that they will own and/or operate a 230 MW Circulation Fluidised Bed Petroleum Coke Power Plant and auxiliary facilities located in Tamuin, San Luis Potosi, Mexico.

Comment date: March 14, 2000, in accordance with Standard Paragraph E at the end of this notice. The Commission will limit its consideration of comments to those that concern the adequacy or accuracy of the application.

2. MEP-II LLC

[Docket No. EG00-98-000]

Take notice that on February 16, 2000, MEP-II LLC (Applicant), a Delaware limited liability company with its principal place of business at 120 Long Ridge Road, Stamford, Connecticut 06927, filed with the Federal Energy Regulatory Commission an application for determination of exempt wholesale generator status pursuant to Part 365 of the Commission's regulations.

Applicant will be owning and operating a 79.9 MW natural gas-fired qualifying cogeneration facility located in North East, Pennsylvania (the Facility), which it acquired from Norcon Power Partners, L.P. All capacity and energy from the Facility is and will be sold exclusively at wholesale.

Comment date: March 14, 2000, in accordance with Standard Paragraph E at the end of this notice. The Commission will limit its consideration of comments to those that concern the adequacy or accuracy of the application.

3. Essential Utility Resources, L.L.C.

[Docket No. ER00-1453-000]

Take notice that on January 31, 2000, Essential Utility Resources, L.L.C. (EUR), applied to the Commission for (1) blanket authorization to sell electricity at market-based rates; (2) acceptance of EUR's proposed Rate Schedule FERC No. 1; (3) waiver of certain Commission Regulations; and (4) such other waivers and authorizations as have been granted to other power marketers, all as more fully set forth in EUR's application on file with the Commission.

EUR states that it intends to engage in electric power transactions as a broker and as a marketer. In transactions where EUR acts as a marketer, it proposes to make such sales on rates, terms and conditions to be mutually agreed to with purchasing parties.

Comment date: March 3, 2000, in accordance with Standard Paragraph E at the end of this notice.

4. PJM Interconnection, L.L.C.

[Docket No. ER00-1579-000]

Take notice that on February 8, 2000, PJM Interconnection, L.L.C. (PJM) tendered for filing with the Federal Energy Regulatory Commission (Commission) an executed service agreement with Cargill-Alliant, L.L.C. for firm point-to-point transmission service under the PJM Open Access Transmission Tariff.

A copy of this filing was served upon Cargill-Alliant, L.L.C.

PJM requests an effective date for the agreement of January 1, 2000.

Comment date: March 3, 2000, in accordance with Standard Paragraph E at the end of this notice.

5. Carolina Power & Light Company

[Docket No. ER00-1632-000]

Take notice that on February 16, 2000, Carolina Power & Light Company (CP&L), tendered for filing an executed Service Agreement with Monroe Power Company under the provisions of CP&L's Market-Based Rates Tariff, FERC Electric Tariff No. 4. CP&L is requesting an effective date of January 28, 2000 for this Agreement.

Copies of the filing were served upon the North Carolina Utilities Commission and the South Carolina Public Service Commission.

Comment date: March 8, 2000, in accordance with Standard Paragraph E at the end of this notice.

6. Public Service Company of New Mexico

[Document No. ER00-1633-000]

Take notice that on February 16, 2000, Public Service Company of New Mexico (PNM), tendered for filing an executed service agreement, for electric power and energy sales at negotiated rates under the terms of PNM's Power and Energy Sales Tariff with the City of Azusa Light and Water (dated February 11, 2000). PNM's filing is available for public inspection at its offices in Albuquerque, New Mexico.

Copies of the filing have been sent to the City of Azusa and to the New Mexico Public Regulation Commission.

Comment date: March 8, 2000, in accordance with Standard Paragraph E at the end of this notice.

7. Puget Sound Energy, Inc.

[Docket No. ER00-1634-000]

Take notice that on February 16, 2000, Puget Sound Energy, Inc. (PSE), tendered for filing a Service Agreement under the provisions of PSE's market-based rates tariff, FERC Electric Tariff, First Revised Volume No. 8, with Avista Corporation (Avista Corp.).

A copy of the filing was served upon Avista Corp.

Comment date: March 8, 2000, in accordance with Standard Paragraph E at the end of this notice.

8. Detroit Edison Company

[Docket No. ER00-1635-000]

Take notice that on February 16, 2000, Detroit Edison Company (Detroit Edison), tendered for filing an addendum to certain rate schedules that would permit the incremental cost of sulfur dioxide (SO2) emissions allowances to be included in the calculation of rates under those rate schedules.

The change is designed to conform the rate schedules to the Commission's rule regarding the ratemaking treatment of SO2 emissions allowances for Phase II units issued under the Clean Air Act Amendments of 1990.

Copies of the filing were served upon Detroit Edison's jurisdictional customers and the Michigan Public Service Commission.

Comment date: March 8, 2000, in accordance with Standard Paragraph E at the end of this notice.

9. Allegheny Energy Service Corporation, on behalf of Allegheny Energy Supply Company LLC

[Docket No. ER00-1636-000]

Take notice that on February 16, 2000, Allegheny Energy Service Corporation on behalf of Allegheny Energy Supply Company, LLC (Allegheny Energy Supply Company) filed Amendment No. 1 to Supplement No. 5 to complete the filing requirement for one (1) new Customer of the Market Rate Tariff under which Allegheny Energy Supply offers generation services.

Allegheny Energy requests a waiver of notice requirements to make service available as of November 18, 1999, to Public Service Electric and Gas Company, Inc.

Copies of the filing have been provided to the Public Utilities Commission of Ohio, the Pennsylvania Public Utility Commission, the Maryland Public Service Commission, the Virginia State Corporation Commission, the West Virginia Public Service Commission, and all parties of record.

Comment date: March 8, 2000, in accordance with Standard Paragraph E at the end of this notice.

10. Cinergy Services, Inc.

[Docket No. ER00-1637-000]

Take notice that on February 16, 2000, Cinergy Services, Inc. (Services), on behalf of its Operating Companies (The Cincinnati Gas & Electric Company and PSI Energy, Inc.—collectively the Cinergy Operating Companies), tendered for filing unexecuted Service Agreements for service under the Cinergy Operating Companies FERC Electric Resale, Assignment or Transfer of Transmission Rights and Ancillary Service Rights Tariff, Original Volume No. 8, applicable to customers which the Cinergy Operating Companies does business with in commodity.

Services requests an effective date of February 21, 2000.

Copies of the filing were served upon all parties listed in Attachment B of the filing.

Comment date: March 2, 2000, in accordance with Standard Paragraph E at the end of this notice.

11. Kansas City Power & Light Company

[Docket No. ER00-1639-000]

Take notice that on February 17, 2000, Kansas City Power & Light Company (KCPL), tendered for filing a Service Agreement dated February 1, 2000, between KCPL and the University of Missouri. KCPL proposes an effective date of February 4, 2000 and requests waiver of the Commission's notice requirement. This Agreement provides for Market Based Sales Service.

Comment date: March 9, 2000, in accordance with Standard Paragraph E at the end of this notice.

12. Central Maine Power Company

[Docket No. ER00-1638-000]

Take notice that on February 17, 2000, Central Maine Power Company (CMP), tendered for filing as an initial rate schedule pursuant to § 35.12 of the Federal Energy Regulatory Commission's regulations, 18 CFR 35.12, an unexecuted Interconnection Agreement (IA) with Boralex Athens Energy Inc. (Boralex), and an unexecuted service agreement for Firm Local Point-to-Point Transmission Service (TSA). The IA provides for interconnection service to Boralex at the rates, terms, charges, and conditions set forth therein. The TSA provides for Firm Point-to-Point Transmission Service.

CMP is requesting that the IA and the TSA become effective on February 17, 2000.

Copies of this filing have been served upon the Maine Public Utilities Commission and Boralex.

Comment date: March 9, 2000, in accordance with Standard Paragraph E at the end of this notice.

13. California Power Exchange Corporation

[Docket No. ER00-1641-000]

Take notice that on February 17, 2000, California Power Exchange Corporation (CalPX), tendered for filing proposed amendments to its tariff to accommodate new arrangements in California for the provision of ancillary services. In addition to selling to and buying from the California Independent System Operator (CAISO), ancillary services sellers and buyers will be able to register bilateral contracts or make forward trades in the California Trading Services (CTS) division of CalPX, for delivery in the CalPX Day Ahead Market. The proposed tariff changes provide for such delivery in the CalPX Day Ahead Market and provide for adjustments when sellers and buyers exceed or fall short of their ancillary services obligations as determined in real time by CAISO.

CalPX requests an effective date of May 1, 2000.

Comment date: March 9, 2000, in accordance with Standard Paragraph E at the end of this notice.

14. California Power Exchange Corporation

[Docket No. ER00-1642-000]

Take notice that on February 17, 2000, California Power Exchange Corporation (CalPX), on behalf of its CalPX Trading Services Division (CTS), tendered for filing proposed changes in Appendices 1, 2, 3 and 5 of its CalPX Trading Services Rate Schedule FERC No. 1. CTS states that the changes are designed to accommodate the trading of ancillary services and the registration of bilateral agreements for ancillary services in the CTS Market.

CTS requests an effective date of May 1, 2000 for most of the changes but requests a March 1, 2000 effective date for a few specific changes related to giving notice on new software.

Comment date: March 9, 2000, in accordance with Standard Paragraph E at the end of this notice.

15. Louisville Gas and Electric Company Kentucky Utilities Company

[Docket No. ER00-1643-000]

Take notice that on February 17, 2000, Louisville Gas and Electric Company (LG&E)/Kentucky Utilities (KU) (hereinafter Companies), tendered for filing an executed unilateral Service Agreement between the Companies and Dynergy Power Marketing, Inc. under the Companies Rate Schedule MBSS.

Comment date: March 9, 2000, in accordance with Standard Paragraph E at the end of this notice.

16. The Montana Power Company

[Docket No. ER00-1644-000]

Take notice that on February 18, The Montana Power Company (Montana), tendered for filing with the Federal Energy Regulatory Commission pursuant to 18 CFR 35.13 an executed Firm Point-To-Point Transmission Service Agreement with PacifiCorp Power Marketing, Inc. under Montana's FERC Electric Tariff, Fourth Revised Volume No. 5 (Open Access Transmission Tariff), replacing a previously filed unexecuted service agreement.

A copy of the filing was served upon PacifiCorp Power Marketing, Inc.

Comment date: March 10, 2000, in accordance with Standard Paragraph E at the end of this notice.

17. The Montana Power Company

[Docket No. ER00-1645-000]

Take notice that on February 18, 2000, The Montana Power Company (Montana), tendered for filing with the Federal Energy Regulatory Commission pursuant to 18 CFR 35.13 executed Firm and Non-Firm Point-To-Point Transmission Service Agreements with Duke Energy Trading and Marketing, LLC under Montana's FERC Electric Tariff, Fourth Revised Volume No. 5 (Open Access Transmission Tariff), replacing previously filed unexecuted service agreements.

A copy of the filing was served upon Duke Energy Trading and Marketing, LLC.

Comment date: March 10, 2000, in accordance with Standard Paragraph E at the end of this notice.

18. Duke Energy Corporation

[Docket No. ER00-1646-000]

Take notice that on February 18, 2000, Duke Energy Corporation (Duke), tendered for filing a Service Agreement with Sempra Energy Trading Corp (Sempra) for Non-Firm Transmission Service under Duke's Open Access Transmission Tariff. Duke requests that the proposed Service Agreement be permitted to become effective on February 1, 2000.

Duke states that this filing is in accordance with Part 35 of the Commission's Regulations and a copy has been served on the North Carolina Utilities Commission.

Comment date: March 10, 2000, in accordance with Standard Paragraph E at the end of this notice.

19. Duke Energy Corporation

[Docket No. ER00-1648-000]

Take notice that on February 18, 2000, Duke Energy Corporation (Duke), tendered for filing a Service Agreement with FPL Energy Power Marketing, Inc. (FPL) for Firm Transmission Service under Duke's Open Access Transmission Tariff.

Duke requests that the proposed Service Agreement be permitted to become effective on January 21, 2000.

Duke states that this filing is in accordance with Part 35 of the Commission's Regulations and a copy has been served on the North Carolina Utilities Commission.

Comment date: March 10, 2000, in accordance with Standard Paragraph E at the end of this notice.

20. Duke Energy Corporation

[Docket No. ER00-1647-000]

Take notice that on February 18, 2000, Duke Energy Corporation (Duke), tendered for filing a Service Agreement with FPL Energy Power Marketing, Inc. (FPL) for Non-Firm Transmission Service under Duke's Open Access Transmission Tariff.

Duke requests that the proposed Service Agreement be permitted to become effective on January 21, 2000.

Duke states that this filing is in accordance with Part 35 of the Commission's Regulations and a copy has been served on the North Carolina Utilities Commission.

Comment date: March 10, 2000, in accordance with Standard Paragraph E at the end of this notice.

21. Duke Energy Corporation

[Docket No. ER00-1649-000]

Take notice that on February 18, 2000, Duke Energy Corporation (Duke), tendered for filing a Service Agreement with Sempra Energy Trading Corp (Sempra), for Firm Transmission Service under Duke's Open Access Transmission Tariff.

Duke requests that the proposed Service Agreement be permitted to become effective on February 1, 2000.

Duke states that this filing is in accordance with Part 35 of the Commission's Regulations and a copy has been served on the North Carolina Utilities Commission.

Comment date: March 10, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-4894 Filed 2-29-00; 8:45 am]

BILLING CODE 6717-01-P